DEPARTMENT OF HEALTH AND HUMAN SERVICES

Centers for Disease Control and Prevention

Interagency Committee on Smoking and Health (ICSH)

AGENCY: Centers for Disease Control and Prevention (CDC), Department of Health and Human Services (HHS).

ACTION: Notice of meeting.

SUMMARY: In accordance with the Federal Advisory Committee Act, the Centers for Disease Control and Prevention (CDC) announces the following meeting of the Interagency Committee on Smoking and Health (ICSH). This is a virtual meeting and is open to the public. The public is welcome to view the meeting via Zoom, limited only by the number of seats available, which is 500. This meeting will include time for members of the public to make an oral comment. Priority will be given to individuals who submit a request to make an oral public comment before the meeting according to the procedures below.

DATES: The meeting will be held on October 15, 2020 from 12:30 p.m. to 4:00 p.m., EDT.

ADDRESSES: Zoom Virtual Meeting. For more information, including information regarding registration and login, please visit: https://www.cdc.gov/tobacco/about/icsh/index.htm.

FOR FURTHER INFORMATION CONTACT: Kathryn Gallagher, Alternate Designated Federal Officer, MPH, Interagency Committee on Smoking and Health, CDC, 4770 Buford Highway NE, Atlanta, Georgia 30341, telephone (404) 639-6358; kgallagher@cdc.gov.

SUPPLEMENTARY INFORMATION:

Purpose: The Interagency Committee on Smoking and Health shall provide advice and guidance to the Secretary, Department of Health and Human Services (HHS), regarding: (a) Coordination of research, educational programs, and other activities within the Department that relate to the effect of smoking on human health and on coordination of these activities, with similar activities of other Federal and private agencies; and (b) establishment and maintenance of liaisons with appropriate private entities, other Federal agencies, and State and local public agencies, regarding activities relating to the effect of cigarette smoking on human health.

Matters to be considered: The agenda will include discussions on the topic of youth tobacco cessation. The meeting objective is to identify federal actions to prioritize areas of research that can be expedited to support tobacco cessation treatments for youth. Agenda items are subject to change as priorities dictate.

Procedure for oral public comment: All persons interested in making an oral public comment at the October ICSH meeting must submit an email request, according to the instructions provided, to Jade Chambers-Blair at OSHIM@cdc.gov, no later than 11:59 p.m., EDT, October 8, 2020. The email request should include the speaker's first and last name, organization, address, phone, and email. CDC will allow for as many comments as permitted by time and will queue individuals for comment in the order in which their requests were received. CDC staff will notify individuals regarding their request to speak by email by October 11, 2020. To accommodate the interest in participation in the oral public comment session of ICSH meetings, each speaker will be limited to 2 minutes, and each speaker may only speak once per meeting.

For more information on ICSH please visit the CDC.gov webpage: https://www.cdc.gov/tobacco/about/icsh/index.htm.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-19642 Filed 9-3-20; 8:45 am]

BILLING CODE 4163-18-P